NATIONAL AERONAUTICS AND SPACE ADMINISTRATION

[Notice (02-075)]

National Environmental Policy Act; Final Environmental Assessment for Launch of NASA Routine Payloads on Expendable Launch Vehicles from Cape Canaveral Air Force Station Florida and Vandenberg Air Force Base California

AGENCY: National Aeronautics and Space Administration (NASA).

ACTION: Finding of No Significant Impact.

SUMMARY: Pursuant to the National Environmental Policy Act of 1969 (NEPA), as amended (42 U.S.C. 4321, et seq.), the Council on Environmental Quality (CEQ) Regulations for Implementing the Procedural Provisions of NEPA (40 CFR parts 1500-1508), and NASA policy and procedures (14 CFR part 1216 subpart 1216.3), NASA has made a Finding of No Significant Impact (FONSI) with respect to the proposed Launch of NASA Routine Payloads on Expendable Launch Vehicles from Cape Canaveral Air Force Station (CCAFS), Florida, and Vandenberg Air Force Base (VAFB), California, during the period 2002 through 2012. Spacecraft that are designated NASA routine payloads would meet the criteria described by a Routine Payload Checklist (RPC) to ensure that the spacecraft, their launch and operations, and their decommissioning would not present any new or substantial environmental and safety concerns. If a candidate mission were to exceed the specific RPC criteria, further environmental review would be required. This FONSI also includes three individual science missions that meet the RPC criteria and are described in the associated Final Environmental Assessment (Final EA): the Comet Nucleus Tour (CONTOUR) mission, which would launch on a Delta II 2425 from CCAFS, Florida, in July 2002, the Mercury Surface Space Environment, Geochemistry, and Ranging (MESSENGER) mission, which would launch on a Delta II 2925H-9.5 from CCAFS in March 2004, and the Deep Impact mission, which would launch on a Delta II 2925 from CCAFS in January 2004.

DATES: This action is effective as of June 18, 2002.

ADDRESSES: The Final EA may be reviewed at the locations listed under the supplementary information in this notice.

FOR FURTHER INFORMATION CONTACT: Mark R. Dahl, Program Executive, NASA Headquarters, Code SM, Washington, DC 20546 or at (202)-358-4800. The Final EA is also available in Acrobat® format at http://spacescience.nasa.gov/admin/pubs/routine—EA/index.htm.

SUPPLEMENTARY INFORMATION: NASA initiated a 30-day public review and comment period for the Draft Environmental Assessment for Launch of NASA Routine Payloads on Expendable Launch Vehicles from Cape Canaveral Air Force Station Florida and Vandenberg Air Force Base California (67 FR 11518-11519, March 14, 2002). Comments and responses are compiled in a new Appendix D of, and text changes were incorporated in the Final EA where appropriate. NASA has reviewed the Final EA and has determined that it represents an accurate and adequate analysis of the scope and level of associated environmental impacts. The Final EA is incorporated by reference in this FONSI.

NASA proposes to launch a variety of scientific missions that are designated NASA routine payloads on expendable launch vehicles (ELVs). The spacecraft and their associated launches (i.e., missions) would be considered to be routine if they would present no new or substantial environmental impacts, and their design and characteristics would not exceed the specific criteria described by the RPC. Such missions are referred to as NASA routine payload spacecraft. Once a sufficiently detailed design concept is proposed for a NASA science mission, NASA would evaluate the proposed design against the RPC to determine if the proposed design is within the definition of a routine payload as described in the Final EA. The RPC includes an envelope spacecraft description, which includes flight components, materials and associated quantities, and flight systems representing a comprehensive bounding reference design for routine payload spacecraft. A proposed spacecraft that presents equal or lesser values of potentially hazardous materials or sources in comparison to the envelope spacecraft description may be considered NASA routine payload spacecraft. If the mission were to be defined as a routine payload following an evaluation against the envelope spacecraft description, this finding would be documented by processing a Record of Environmental Consideration (REC) in accordance with NASA's procedures and guidelines, citing this Final EA. If the proposed mission were to be found to be inconsistent with the NASA routine payload categorization, plans would begin for consideration of additional environmental documentation.

Routine payload spacecraft would be placed into Earth orbit or into Earth-escape trajectories (i.e., solar orbit) using one of a group of ELVs routinely launched from CCAFS, Florida, and VAFB, California. The use of these ELVs and launch sites for the launch of the routine payload spacecraft has been analyzed and is within the scope of existing NEPA documents for operations at these launch facilities. The specific ELV and trajectory selected for a particular mission would depend on the specific mission objectives and requirements for that routine payload mission. Routine payload spacecraft final assembly, propellant loading, and checkout of payload systems would be performed at the Kennedy Space Center (KSC), Florida, (launch processing center for NASA spacecraft to be launched at CCAFS) or VAFB and their associated payload processing facilities. The spacecraft would then be transported to an existing space launch complex at VAFB or CCAFS where it would be integrated with the launch vehicle. Due to varying payload weights and mission specific requirements, NASA routine payload spacecraft may require different launch vehicles.

The ELVs proposed for launching the routine payload spacecraft represent domestic (U.S.) ELVs that would be suitable for launching the routine payload spacecraft, potentially be available during the 2002-2012 period, have documented environmental impacts, and utilize existing launch facilities. The ELVs included in this action are the Atlas series, Delta series, Taurus, Athena series, Pegasus XL, and Titan II. These launch vehicles would accommodate the desired range of payload masses, provide the needed trajectory capabilities, and provide highly reliable launch services. Individual ELVs would be carefully matched to the launch requirements of each particular routine payload spacecraft.

The launch vehicles selected for summary in the Final EA are the Atlas V (largest solids from CCAFS), Delta IV (largest solids from VAFB), Delta II 2925 (largest hypergolic propellant load from CCAFS), and the Titan II (largest hypergolic propellant load from VAFB). These ELVs represent the largest expected impact to the human environment associated with the proposed action. For normal launches, the environmental impacts would be associated with exhaust emissions from the launch vehicles. The primary exhaust emissions produced by the solid propellant and first stage include carbon monoxide, hydrochloric acid, aluminum oxide in soluble and insoluble forms, carbon dioxide, and deluge water mixed with propellant by-products. The primary emission products from the liquid engines include carbon dioxide, carbon monoxide, water vapor, oxides of nitrogen, and carbon particulates. Air impacts will be short-term and not substantial. Short-term water quality and noise impacts, as well as short-term effects on wetlands, plants, and animals, would occur in the vicinity of the launch complex. These short-term impacts are of a nature to be self-correcting, and none of these effects would be substantial. There would be no impacts on threatened or endangered species or critical habitat, cultural resources, wetlands, or floodplains. Launch accident scenarios have also been addressed and indicate no potential for substantial environmental impact to the human environment. The launch of NASA routine payloads on expendable launch vehicles would not increase launch rates at CCAFS and VAFB above existing or previously approved and documented levels.

Alternatives to the proposed action that were evaluated include: (1) Utilizing a foreign launch vehicle or, (2) NASA would not launch spacecraft missions defined as routine payloads (the “no action” alternative). The nature of environmental impacts, payload processing, launch sites, and other related information for foreign launch systems is generally not as well known or as well documented as for launches from the U. S., and would require additional review and environmental documentation. In addition, U.S. Government policy (NASA Policy Directive NPD 8610.7) requires that the launch of U.S. Government-sponsored spacecraft utilize all reasonable sources of U.S. launch services. Therefore, foreign launch vehicles were not considered reasonable alternatives for the use of routine payload spacecraft. The No-Action alternative would mean that NASA would then propose spacecraft missions for individualized review under NEPA. Duplicate analyses and redundant documentation for missions that would otherwise meet the RPC criteria would not present any new information or identify any substantially different environmental impacts.

NASA routine payload spacecraft would follow the NASA guidelines regarding orbital debris and minimizing the risk of human casualty for uncontrolled reentry into the Earth's atmosphere. None of the NASA routine payload missions covered under the Final EA will have radioactive materials aboard the spacecraft, except for the possibility of very small quantities, limited to the approval authority level of the NASA Office of Safety and Mission Assurance, Nuclear Flight Safety Assurance Manager, used on certain missions typically for instrumentation purposes. Consequently, no potential adverse impacts from radioactive substances are anticipated. The RPC provides a set of questions that must be addressed in determining whether or not a proposed future NASA routine payload mission falls within the scope of the Final EA and this FONSI. No other individual or cumulative impacts of environmental concern have been identified.

The CONTOUR mission would send a spacecraft to flyby at least two short-period comets Encke and Schwassmann-Wachmann 3. Four instruments would image and spectrally map portions of the comet nucleus and measure the composition of gas and dust particles surrounding the comet. The CONTOUR spacecraft would be launched from CCAFS on a Delta II 2425 during July 2002. Several Earth gravity-assist flybys would be used to shape CONTOUR's trajectory toward the comet encounters. The CONTOUR mission meets the RPC criteria and the launch of the Delta II 2425 launch vehicle is within the previously approved and permitted launch rates. The MESSENGER mission would place a spacecraft in orbit around the planet Mercury. Eight instruments would study Mercury's internal structure, composition, geology, atmosphere, magnetic field, and interaction with the solar wind. The MESSENGER spacecraft would be launched from CCAFS on a Delta II 2925H-9.5 during March 2004 into a direct interplanetary trajectory. The MESSENGER mission meets the RPC criteria and the launch of the Delta II 2925H-9.5 launch vehicle is within the previously approved and permitted launch rates. The Deep Impact mission would investigate the physical and chemical characteristics of the comet Temple I by excavating a large crater in the comet's surface using a high-velocity copper impactor. The Deep Impact spacecraft would carry the impactor and high and medium resolution instrument to collect multi-spectral images of the comet's surface before and after the impactor's collision. After completion of the Temple I encounter, the flyby spacecraft will remain in solar orbit. The Deep Impact spacecraft would be launched from CCAFS on a Delta II 2925 during January 2004. The Deep Impact mission meets the RPC criteria and the launch of the Delta II 2925 launch vehicle is within the previously approved and permitted launch rates.

The level and scope of environmental impacts associated with the launch of NASA routine payload spacecraft are well within the envelope of impacts that have been addressed in previous FONSIs concerning other launch vehicles and spacecraft. NASA routine payload spacecraft would not increase launch rates nor utilize launch systems beyond the scope of approved programs at VAFB or CCAFS. No NASA routine payload specific processing or launch activities have been identified that would require new permits and/or mitigation measures beyond those currently in place or in coordination at VAFB and CCAFS. No significant new circumstances or information relevant to environmental concerns associated with the launch vehicle have been identified which would affect the earlier findings. As specific spacecraft and missions are fully defined, they will be reviewed against the RPC and the Final EA. If NASA determines that future payloads have the potential for substantially different environmental impacts, further environmental reviews will be conducted and documented, as appropriate. On the basis of the Final EA, NASA has determined that the environmental impacts associated with the proposed action and the specified missions identified as within the scope of the Final EA would not individually or cumulatively have a significant impact on the quality of the human environment.

The Final EA may be reviewed at the following locations:

(a) NASA Headquarters, Library, Room 1J20, 300 E Street, SW., Washington, DC 20546 (202-358-0167).

(b) Spaceport USA, Room 2001, John F. Kennedy Space Center, Florida 32899. Please call Penny Myers beforehand at 321-867-9280 so that arrangements can be made.

(c) Jet Propulsion Laboratory, Visitors Lobby, Building 249, 4800 Oak Grove Drive, Pasadena, CA 91109 (818-354-5179).

(d) Vandenberg Air Force Base, Technical Library, Building 7015, 806 13th Street, Vandenberg AFB, CA 93437.

The Final EA may also be examined at the following NASA Centers by contacting the appropriate Freedom of Information Act Office:

(e) NASA, Ames Research Center, Moffet Field, CA 94035 (650-604-1181).

(f) NASA, Dryden Flight Research Center, P.O. Box 273, Edwards, CA 93523 (661-258-3689).

(g) NASA, Glenn Research Center, 21000 Brookpark Road, Cleveland, OH 44135 (216-433-2755).

(h) NASA, Goddard Space Flight Center, Greenbelt, MD 20771 (301-286-6255).

(i) NASA, Johnson Space Center, Houston, TX 77058 (281-483-8612).

(j) NASA, Langley Research Center, Hampton, VA 23681 (757-864-2497).

(k) NASA, Marshall Space Flight Center, Huntsville, AL 35812 (256-544-1837).

(l) NASA, Stennis Space Center, MS 39529 (228-688-2164).

A limited number of hard copies of the Final EA are available for persons wishing a copy by contacting Mr. Dahl, at the address or telephone number indicated herein.

Edward J. Weiler,
Associate Administrator for Space Science.
Ghassem R. Asrar,
Associate Administrator for Earth Science.

[FR Doc. 02-15348 Filed 6-17-02; 8:45 am]

BILLING CODE 7510-01-P